DEPARTMENT OF ENERGY

Federal Energy Regulatory Commission

Combined Notice of Filings #2

Take notice that the Commission received the following electric rate filings:

Docket Numbers: ER06-771-003; ER06-772-003

Applicants: Cross & Company PLLC

Description: Supplemental Information to Triennial Market-Power Filing of ExxonMobil Entities.

Filed Date: 5/7/12

Accession Number: 20120507-5061

Comments Due: 5 p.m. ET 5/29/12

Docket Numbers: ER10-2172-008; ER10-2179-011; ER11-2016-003; ER10-2184-008; ER10-2183-005; ER10-1048-005; ER10-2176-009; ER10-2192-008; ER11-2056-002; ER10-2178-008; ER10-2174-008; ER11-2014-005; ER11-2013-005; ER10-3308-007; ER10-1017-004; ER10-1020-004; ER10-1145-004; ER10-1144-003; ER10-1078-004; ER10-1079-004; ER10-1080-004; ER11-2010-005; ER10-1081-004; ER10-2180-008; ER11-2011-004; ER11-2009-004; ER11-3989-003; ER10-1734-005; ER10-2181-011; ER10-1143-004; ER10-2182-011; ER11-2007-003; ER12-1223-003; ER11-2005-005

Applicants: Baltimore Gas and Electric Company, Wind Capital Holdings, LLC, Harvest WindFarm, LLC, CER Generation II, LLC, Handsome Lake Energy, LLC, Exelon New England Power Marketing, LP, Exelon Framingham, LLC, Exelon New Boston, LLC, Exelon West Medway, LLC, Exelon Wyman, LLC, Exelon Generation Company, LLC, Exelon Energy Company, CER Generation, LLC, PECO Energy Company, Commonwealth Edison Company, Constellation Energy Commodities Group, Constellation NewEnergy, Inc., Calvert Cliffs Nuclear Power Plant, LLC, Exelon Generation Company, LLC, Constellation Energy Commodities Group Maine, LLC, Nine Mile Point Nuclear Station, LLC, Constellation Mystic Power, LLC, Michigan Wind 1, LLC, Tuana Springs Energy, LLC, CR Clearing, LLC, Exelon Wind 4, LLC, Michigan Wind 2, LLC, Criterion Power Partners, LLC, Constellation Power Source Generation, Inc., MXenergy Electric Inc., Wildcat Wind, LLC, Cassia Gulch Wind Park, LLC, Cow Branch Wind Energy, LLC, R.E. Ginna Nuclear Power Plant, LLC

Description: Supplement to Notification of Change in Status of Baltimore Gas and Electric Company, et al.

Filed Date: 5/14/12

Accession Number: 20120514-5183

Comments Due: 5 p.m. ET 6/4/12

Docket Numbers: ER12-1780-000; ER10-3121-004; ER11-2234-001; ER11-2235-001; ER11-2236-001; ER11-2237-001; ER11-2238-001; ER12-178-001; ER11-2239-001; ER11-2240-001; ER11-2241-001; ER11-2242-001; ER11-2243-001; ER11-2244-001; ER11-2245-001; ER11-2246-001; ER11-2247-001; ER11-2248-001; ER11-2249-001; ER10-3247-005; ER10-2231-002; ER10-1714-003; ER10-1511-003

Applicants: PPL Ironwood, LLC, PPL Ironwood, LLC, Lower Mount Bethel Energy, LLC, PPL Brunner Island, LLC, PPL Colstrip I, LLC, PPL Colstrip II, LLC, PPL Electric Utilities Corporation, PPL Energy Supply, LLC, PPL EnergyPlus, LLC, PPL Great Works, LLC, PPL Holtwood, LLC, PPL Maine, LLC, PPL Martins Creek, LLC, PPL Montana, LLC, PPL Montour, LLC, PPL New Jersey Biogas, LLC, PPL New Jersey Solar, LLC, PPL Renewable Energy, LLC, PPL Susquehanna, LLC, Electric Energy, Inc., Kentucky Utilities Company, LG&E Energy Marketing, Inc., Louisville Gas and Electric Company

Description: Market-Based Rate Notice of Change in Status of the PPL Companies.

Filed Date: 5/14/12

Accession Number: 20120514-5194

Comments Due: 5 p.m. ET 6/4/12

Docket Numbers: ER10-2877-001

Applicants: Cobb Electric Membership Corp.

Description: COBB Electric Membership Corp., Amendment to Updated Market Power Analysis.

Filed Date: 4/27/12

Accession Number: 20120427-5423

Comments Due: 5 p.m. ET 5/18/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 15, 2012.
Nathaniel J. Davis, Sr.,
Deputy Secretary.

[FR Doc. 2012-12309 Filed 5-21-12; 8:45 am]

BILLING CODE 6717-01-P